DEPARTMENT OF LABOR

Employment and Training Administration

[TA-W-56,557]

Phoenix Millwork, A Division of Baker McMillen Co., Beaumont, TX; Notice of Termination of Investigation

Pursuant to section 221 of the Trade Act of 1974, as amended, an investigation was initiated on February 11, 2005, in response to a petition filed by a state agency representative on behalf of workers at Phoenix Millwork, a division of Baker McMillen Co., Beaumont, Texas.

The petitioner has requested that the petition be withdrawn. Consequently, the investigation has been terminated.

Signed in Washington, DC, this 8th day of March, 2005.
Richard Church,
Certifying Officer, Division of Trade Adjustment Assistance.

[FR Doc. E5-1351 Filed 3-25-05; 8:45 am]

BILLING CODE 4510-30-P